DEPARTMENT OF THE INTERIOR

National Park Service

[NPS-WASO-NAGPRA-NPS0035257; PPWOCRADN0-PCU00RP14.R50000]

Notice of Inventory Completion: University of Wisconsin-Milwaukee, Milwaukee, WI

AGENCY: National Park Service, Interior.

ACTION: Notice.

SUMMARY: In accordance with the Native American Graves Protection and Repatriation Act (NAGPRA), the University of Wisconsin-Milwaukee (UWM) has completed an inventory of human remains and associated funerary objects and has determined that there is a cultural affiliation between the human remains and associated funerary objects and Indian Tribes or Native Hawaiian organizations in this notice. The human remains and associated funerary objects were removed from Jefferson, Kenosha, Ozaukee, Waukesha, and Winnebago Counties, WI.

DATES: Repatriation of the human remains and associated funerary objects in this notice may occur on or after March 6, 2023.

ADDRESSES: Jennifer R. Haas, NAGPRA Coordinator, University of Wisconsin-Milwaukee, P.O. Box 413, Milwaukee, WI 53201, telephone (414) 229-3078, email haasjr@uwm.edu.

SUPPLEMENTARY INFORMATION: This notice is published as part of the National Park Service's administrative responsibilities under NAGPRA. The determinations in this notice are the sole responsibility of UWM. The National Park Service is not responsible for the determinations in this notice. Additional information on the determinations in this notice, including the results of consultation, can be found in the inventory or related records held by UWM.

Description

On an unknown date, human remains representing, at minimum, one individual were removed by unknown individuals near Bingham's Point, by Lake Koshkonong, in Jefferson County, WI. The human remains and associated funerary objects, which had been removed from the surface of the ground, date to the nineteenth century. This collection was given to David Overstreet in the 1970s, who, in January of 2006, donated it collection to the UWM. The two associated funerary objects are one metal brooch and one lot of faunal bones.

On an unknown date, human remains representing, at minimum, one individual were removed by amateur archeologist Paul Turney from the Milford/Koester site (47-JE-44) in Jefferson County, WI. Turney removed soil from the site containing fragmentary human remains. This collection was transferred to the UWM in 1990, after Turney's death. The one associated funerary object is the soil removed together with the human remains.

On an unknown date human remains representing, at minimum, four individuals were removed by collector Phil Sander from a house construction site near Barnes Creek (47-KN-41) in Kenosha County, WI. The Barnes Creek site dates to the Archaic (8000 to 500 BC), Early Woodland Red Ocher culture (500 BC to A.D. 0), Middle Woodland (A.D. 0 to 400), Late Woodland (A.D. 900 to 1300), and Historic periods. Archeologically, the burials are associated with the Red Ocher component. On an unknown date, Sander gave the human remains to David Overstreet, and in 2006, Overstreet donated them to the UWM. The two associated funerary objects are one porcelain (or ceramic) figurine and one piece of metal.

In 1848, human remains representing, at minimum, one individual were removed from Kenosha County, WI, when the Hasselman family were excavating a gravel pit on their farm approximately 0.5 mile south of Wilmot, near the Fox River. According to records from the Kenosha Historic Society (KCHS), the family stated that a projectile point was piercing one of the vertebrae and that pottery sherds were also found in the pit. The human remains and associated funerary objects date from the Archaic (8000 to 500 BC) and Middle Woodland (A.D. 0 to 400) periods. In 1936, this collection was donated to the KCHS Museum by Dr. B.A. Becker, and in 1988, it was transferred to the UWM. The two associated funerary objects are one projectile point and one lot of pottery sherds.

In June of 1978, human remains representing, at minimum, one individual were removed by two boys at an Elm Grove construction site near the Convent Knoll site (47-WK-0327), in Waukesha County, WI. The site dates to the Early Woodland period (500 BC to A.D. 0). The boys brought the human remains to Elm Grove Village Hall, and they were eventually given to David Overstreet. In 2006, Overstreet donated the human remains to the UWM. No associated funerary objects are present.

On July 29, 1988, human remains representing, at minimum, one individual were removed during the UWM Department of Anthropology's archeological field school excavations at the Klug Island site (47-OZ-67) in Ozaukee County, WI. This site dates to the Late Woodland (A.D. 900 to 1300), Mississippian (A.D. 1100 to 1300), and possibly Oneota (A.D. 1100 to 1600) periods. These human remains belong to the Late Woodland or Mississippian components. Sometime during 1988, the human remains and associated funerary objects were transported to the UWM. The two associated funerary objects are one trumpeter swan tibiotarsus and one projectile point.

At an unknown date, human remains representing, at minimum, two individuals were removed from Winnebago County, WI. In 1964, G. Richard Peske (Wisconsin State University-Oshkosh) completed excavations at the Lasley's Point site (47-WN-0096/47-WN-0008), and it is believed these human remains were removed during those excavations. This site dates to the Oneota Lake Winnebago Phase (A.D. 1300 to 1600). At an unknown date, these human remains were transferred to the UWM. No associated funerary objects are present.

At an unknown date, human remains representing, at minimum, one individual were removed by an unknown individual from the Kregel Site (47-WN-211) in Winnebago County, WI. The site dates to the Oneota Lake Winnebago Phase (A.D. 1300 to 1600). In the early 2000s, a private cultural resources management firm transferred this collection to the UWM as part of a larger donation. The one associated funerary object is a lot comprised of lithics and ceramics.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, and expert opinion.

Determinations

Pursuant to NAGPRA and its implementing regulations, and after consultation with the appropriate Indian Tribes and Native Hawaiian organizations, UWM has determined that:

• The human remains described in this notice represent the physical remains of 12 individuals of Native American ancestry.

• The 10 objects described in this notice are reasonably believed to have been placed with or near individual human remains at the time of death or later as part of the death rite or ceremony.

• There is a relationship of shared group identity that can be reasonably traced between the human remains and associated funerary objects described in this notice and the Ho-Chunk Nation of Wisconsin; Iowa Tribe of Kansas and Nebraska; Iowa Tribe of Oklahoma; Menominee Indian Tribe of Wisconsin; Otoe-Missouria Tribe of Indians, Oklahoma; and the Winnebago Tribe of Nebraska.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 6, 2023. If competing requests for repatriation are received, UWM must determine the most appropriate requestor prior to repatriation. Requests for joint repatriation of the human remains and associated funerary objects are considered a single request and not competing requests. UWM is responsible for sending a copy of this notice to the Indian Tribes identified in this notice.

Authority: Native American Graves Protection and Repatriation Act, 25 U.S.C. 3003, and the implementing regulations, 43 CFR 10.9, 10.10, and 10.14.

Dated: January 27, 2023.
Melanie O'Brien,
Manager, National NAGPRA Program.

[FR Doc. 2023-02277 Filed 2-2-23; 8:45 am]

BILLING CODE 4312-52-P